DEPARTMENT OF AGRICULTURE

Submission for OMB Review; Comment Request

November 21, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Dairy Tariff-Rate Import Quota Licensing Regulation.

OMB Control Number: 0551-0001.

Summary of Collection: The Importation of most cheese made from cow's milk and certain non-cheese dairy articles (butter, dried milk, and butter substitutes) are subject to Tariff-rate Quotas (TRQs) and must be accompanied by an import license issue by the Department to enter at the lower tariff. Licenses are issued in accordance with the Department's Import Licensing Regulation (7 CFR Part 6). Importers without licenses may enter these dairy articles, but are required to pay the higher tariff. The Foreign Agricultural Service (FAS) will collect information using several forms.

Need and Use of the Information: FAS will use the information to assure that the intent of the legislation is correctly administered and to determine eligibility to obtain benefits under the Import Regulation. If the information were collected less frequently, FSA would be unable to issue licenses on an annual basis in compliance with the Import Regulation.

Description of Respondents: Business or other-for-profit; Individuals or households.

Number of Respondents: 680.

Frequency of Responses: Record keeping, Reporting: Annually.

Total Burden Hours: 291.

Ruth Brown,
Departmental Information Collection Clearance Officer.

[FR Doc. E6-20267 Filed 11-29-06; 8:45 am]

BILLING CODE 3410-10-P